ENVIRONMENTAL PROTECTION AGENCY

40 CFR Part 52

[R04-OAR-2004-KY-0003-200502e; FRL-7906-4]

Approval and Promulgation of Implementation Plans for Kentucky: Inspection and Maintenance Program Removal for Northern Kentucky; Commercial Motor Vehicle and Mobile Equipment Refinishing Operations

AGENCY: Environmental Protection Agency (EPA).

ACTION: Proposed rule; extension of public comment period.

SUMMARY: EPA is extending the comment period for a proposed rule published April 4, 2005 (70 FR 17029). On April 4, 2005, EPA proposed an approval of four related revisions to the Kentucky State Implementation Plan submitted by the Commonwealth of Kentucky on November 12, 2004. These revisions affect the Northern Kentucky area, which is comprised of the Kentucky Counties of Boone, Campbell, and Kenton, and is part of the Cincinnati-Hamilton Metropolitan Statistical Area. In response to a request from the Kentucky Resources Council, EPA is extending the comment period for 14 days.

DATES: The comment period is extended until May 18, 2005.

ADDRESSES: Comments should be submitted to: Michele Notarianni, Air Planning Branch, Air, Pesticides and Toxics Management Division, U.S. Environmental Protection Agency, Region 4, 61 Forsyth Street, SW., Atlanta, Georgia 30303-8960. Phone: (404) 562-9031. E-mail: notarianni.michele@epa.gov. Additional instructions to comment can be found in the notice of proposed rulemaking published April 4, 2005 (70 FR 17029).

FOR FURTHER INFORMATION CONTACT: Michele Notarianni, Air Planning Branch, Air, Pesticides and Toxics Management Division, U.S. Environmental Protection Agency, Region 4, 61 Forsyth Street, SW., Atlanta, Georgia 30303-8960. Phone: (404) 562-9031. E-mail: notarianni.michele@epa.gov.

Dated: April 21, 2005.
A. Stanley Meiburg,
Acting, Regional Administrator, Region 4.

[FR Doc. 05-8705 Filed 4-29-05; 8:45 am]

BILLING CODE 6560-50-P